DEPARTMENT OF JUSTICE

Notice of Lodging of Proposed Consent Decree Under the Toxic Substances Control Act

On September 28, 2016, a proposed consent decree was lodged with the United States District Court for the Northern District of Illinois in the lawsuit entitled United States v. Sears Home Improvement Products, Inc., Civil Action No. 1:16-cv-09302.

The United States filed this lawsuit against Sears Home Improvement Products, Inc., (“SHIP”) alleging violations of Sections 402(c) and 406(b) of Title IV of the Toxic Substances Control Act (“TSCA”), 15 U.S.C. 2682(c) and 2686(b), and the regulations promulgated thereunder. The complaint alleged that home renovations undertaken by SHIP's contractors did not comply with requirements to document activities related to lead based paint at various locations throughout the country. The proposed consent decree requires SHIP to implement procedures that will help ensure compliance with TSCA's requirements and pay a civil penalty of $400,000.

The publication of this notice opens a period for public comment on the consent decree. Comments should be addressed to the Assistant Attorney General, Environment and Natural Resources Division, and should refer to United States v. Sears Home Improvement Products, Inc., D.J. Ref. No. 90-5-1-1-11241/1. All comments must be submitted no later than thirty (30) days after the publication date of this notice. Comments may be submitted either by email or by mail in the following manner:

To submit comments: | Send them to:
By email | pubcomment-ees.enrd@usdoj.gov.
By mail | Assistant Attorney General, U.S. DOJ-ENRD, P.O. Box 7611, Washington, DC 20044-7611

During the public comment period, the consent decree may be examined and downloaded at this Justice Department Web site: https://www.justice.gov/enrd/Consent_Decrees. We will provide a paper copy of the consent decree upon written request and payment of reproduction costs. Please mail your request and payment to: Consent Decree Library, U.S. DOJ—ENRD, P.O. Box 7611, Washington, DC 20044-7611.

Please enclose a check or money order for $10.00 (25 cents per page reproduction cost) payable to the United States Treasury.

Karen Dworkin,
Assistant Chief, Environmental Enforcement Section, Environment and Natural Resources Division.

[FR Doc. 2016-24441 Filed 10-7-16; 8:45 am]

BILLING CODE 4410-15-P